CORPORATION FOR NATIONAL AND COMMUNITY SERVICE

Revision of Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning proposed revision of its Senior Corps Grant Application (424-NSSC) (OMB Control Number 3045-0035). The Grant Application is used by the Foster Grandparent, Senior Companion, and RSVP programs. CNCS proposes the following modifications to increase both the flexibility and the utility of the Senior Corps Grant Application so that it can serve as the source instructional document for data fields required to complete and submit an application for funding. Currently, the Grant Application contains two types of information needed by applicants: Instructional or “how-to” information and narrative questions and other content. While the instructions rarely change from year to year, the narrative questions and performance measures content can and do change annually, resulting in an ongoing need for Grant Application revisions for the upcoming year or competition. With this proposed change, CNCS will use the Senior Corps Grant Application exclusively to define data fields and describe how to enter the required data and information in each field. The Grant Application will not contain the content questions. The proposed change will be achieved by: (1) Removing and relocating narrative questions and other content materials from the Grant Application to applicable competitive Notices of Funding Opportunity and/or non-competitive Notices of Invitation to Apply for grant funds; (2) Removing performance measures requirements from the Grant Application and referring applicants to the OMB approved Performance Measures Requirements documents for the Senior Corps programs; and (3) replacing all existing Grant Application instructions with step-by-step eGrants instructions correlated to the Grant Application screens in eGrants.

With these changes, applicants for Senior Corps grants can use a set of interrelated and readily available documents to complete the Grant Application.

The proposed revisions do not change the estimated respondent burden.

The proposed revisions do not change the data fields or data collected with the Senior Corps Grant Application.

Copies of the information collection request can be obtained by contacting the office listed in the addresses section of this Notice.

DATES: Written comments must be submitted to the individual and office listed in the ADDRESSES section by February 9, 2015.

ADDRESSES: You may submit comments, identified by the title of the information collection activity, by any of the following methods:

(1) By mail sent to: Corporation for National and Community Service, Senior Corps, Attention: Ms. Angela Roberts, Associate Director, 9401; 1201 New York Avenue NW., Washington, DC 20525.

(2) By hand delivery or by courier to the CNCS mailroom at Room 8100 at the mail address given in paragraph (1) above, between 9:00 a.m. and 4:00 p.m. Monday through Friday, except Federal holidays.

(3) By fax to: (202) 606-3475, Attention: Ms. Angela Roberts, Associate Director.

(4) Electronically through www.regulations.gov. Individuals who use a telecommunications device for the deaf (TTY-TDD) may call (202) 606-3472 between 8:30 a.m. and 5:00 p.m. Eastern Time, Monday through Friday.

FOR FURTHER INFORMATION CONTACT: Angela Roberts by email at aroberts@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Senior Corps Grant Application is completed by applicant organizations interested in sponsoring a Senior Corps program. The grant application is also used by existing grantees to apply for continuation year grants (annual submissions in years two and three of a three year grant). The grant application is completed electronically using the CNCS web-based grants management system, eGrants.

Current Action

CNCS seeks to revise the current application with modifications. The proposed revisions do not change the estimated respondent burden. The information collection will otherwise be used for the same purpose as the existing application. CNCS also seeks to continue using the current application until the revised application is approved by OMB. The current application is due to expire on September 30, 2015.

Type of Review: Revision.

Agency: Corporation for National and Community Service.

Title: National Senior Service Corps Grant Application.

OMB Number: 3045-0035.

Agency Number: SF 424-NSSC.

Affected Public: Current and prospective sponsors of National Senior Service Corps Grants.

Total Respondents: 1,350.

Frequency: Annually, with exceptions.

Average Time per Response: Estimated at 13.2 hours each.

Estimated Total Burden Hours: 17,820 hours.

Total Burden Cost (capital/startup): None.

Total Burden Cost (operating/maintenance): None.

Comments submitted in response to this notice will be summarized and/or included in the request for Office of Management and Budget approval of the information collection request; they will also become a matter of public record.

Dated: December 4, 2014.
Erwin Tan,
Director, Senior Corps.

[FR Doc. 2014-28900 Filed 12-9-14; 8:45 am]

BILLING CODE 6050-$$-P